DEPARTMENT OF COMMERCE

International Trade Administration

15 CFR Part 335

[Docket No. 170922927-8683-01]

RIN 0625-AB13

Imports of Certain Worsted Wool Fabric: Implementation of Tariff Rate Quota Established Under Title V of the Trade and Development Act of 2000: Removal of Regulations

AGENCY: International Trade Administration, Department of Commerce.

ACTION: Final rule.

SUMMARY: The International Trade Administration of the Department of Commerce is removing an obsolete and unnecessary regulation on licenses for the allocation of tariff rate quotas for the import of certain worsted wool fabrics. The tariff rate quota authority administered by the International Trade Administration has expired, making the implementing regulations obsolete and unnecessary.

DATES: This rule is effective July 16, 2019.

FOR FURTHER INFORMATION CONTACT: Daniel Hylton, Office of the General Counsel, U.S. Department of Commerce, 1401 Constitution Avenue NW, Mail Stop 5875, Washington, DC 20230; telephone: (202) 482-0937, occic@doc.gov.

SUPPLEMENTARY INFORMATION:

Background

Section 501(e) of the Trade and Development Act of 2000, Public Law 106-200, required the President to fairly allocate tariff rate quotas on the import of certain worsted wool fabrics established under Sections 501(a) and (b) of the Act. Section 504(b) authorized the President to modify the limitations on worsted wool fabric imports under the tariff rate quotas. In Presidential Proclamation 7383 of December 1, 2000, the President delegated to the Secretary of Commerce the authority to allocate the quantity of imports under the tariff rate quotas; to annually consider requests from domestic manufacturers of worsted wool apparel to modify the limitation on the quantity of worsted wool fabrics that may be imported under the tariff rate quotas; to determine whether the limitations on the quantity of imports under the tariff rate quotas should be modified and recommend to the President that appropriate modifications be made; and to issue regulations to implement the relevant provisions of the Act. Pursuant to that delegation, the Department issued the regulations at 15 CFR part 335 and revised those regulations in 2005 (70 FR 24941; May 12, 2005) to implement amendments to the program under Title IV (entitled the “Wool Suit and Textile Trade Extension Act of 2004”) of the Miscellaneous Trade and Technical Corrections Act of 2004 (Pub. L. 108-429). Section 325(a) of the Tax Extenders and Alternative Minimum Tax Relief Act of 2008, Division C of Pub. L. 110-343, extended the authority for the tariff rate quota program until December 31, 2014, at which time the program expired.

Classification

This final rule was drafted in accordance with Executive Orders 12866, 13563, and 13771. OMB has determined that this rule is not significant for purposes of Executive Order 12866. This final rule is a deregulatory action under Executive Order 13771.

Administrative Procedure Act and Regulatory Flexibility Act

Pursuant to 5 U.S.C. 553(b)(B), there is good cause to waive prior notice and an opportunity for public comment on this action, as notice and comment are unnecessary. This rule removes obsolete regulations implementing the sections of Title V of the Trade and Development Act of 2000, as amended, that are no longer in effect. Therefore, public comment would serve no purpose and is unnecessary. There is also good cause under 5 U.S.C. 553(d)(3) to waive the 30-day delay in effectiveness. This rule does not alter the rights or responsibilities of any party, and delaying its implementation would serve no purpose.

Because prior notice and an opportunity for public comment are not required pursuant to 5 U.S.C. 553, or any other law, the analytical requirements of the Regulatory Flexibility Act (5 U.S.C. 601 et seq.) are inapplicable. Therefore, a regulatory flexibility analysis has not been prepared.

Congressional Review Act

This final rule is not major under the Congressional Review Act (5 U.S.C. 801 et seq.).

Executive Order No. 13132

This final rule does not contain policies that have federalism implications.

Paperwork Reduction Act

The Paperwork Reduction Act of 1995 (44 U.S.C. 3501 et seq.) (“PRA”) requires that a Federal agency consider the impact of paperwork and other information collection burdens imposed on the public and, under the provisions of PRA section 3507(d), obtain approval from OMB for each collection of information it conducts, sponsors, or requires through regulations. This final rule does not require the collection of any information.

List of Subjects in 15 CFR Part 335

Customs duties and inspection, Imports, Reporting and recordkeeping requirements, Textiles.

Dated: July 3, 2019.
Maria D'Andrea-Yothers,
Director, Office of Textiles and Apparel, Industry and Analysis, International Trade Administration, U.S. Department of Commerce.

PART 335—[REMOVED AND RESERVED]

For the reasons discussed in the preamble, and under the authority of 5 U.S.C. 301, we remove and reserve part 335 of title 15 of the Code of Federal Regulations.

[FR Doc. 2019-14551 Filed 7-15-19; 8:45 am]

BILLING CODE 3510-DR-P